DEPARTMENT OF DEFENSE

Office of the Secretary

Federal Advisory Committee; Meeting of the Defense Policy Board

AGENCY: Defense Policy Board, DoD.

ACTION: Notice.

SUMMARY: The Defense Policy Board will meet in closed session on June 23 and 24, 2010, at the Pentagon.

DATES: The meeting will be held on June 23, 2010, from 0730 hrs until 1800 hrs and on June 24, 2010, from 0730 hrs until 1030 hrs.

ADDRESSES: The meeting will be held at the Pentagon.

FOR FURTHER INFORMATION CONTACT: Ms. Ann Hansen, 703-571-9232.

SUPPLEMENTARY INFORMATION: The purpose of the meeting is to provide the Secretary of Defense, Deputy Secretary of Defense and Under Secretary of Defense for Policy with independent, informed advice on major matters of defense policy. The Board will hold classified discussions on national security matters.

In accordance with section 10(d) of the Federal Advisory Committee Act, Public Law 92-463, as amended (5 U.S.C. App II (1982)), it has been determined that this meeting concerns matters listed in 5 U.S.C. 552B(c)(1)(1982), and that accordingly this meeting will be closed to the public.

Dated: June 2, 2010.
Mitchell S. Bryman,
Alternate OSD Federal Register Liaison Officer, Department of Defense.

[FR Doc. 2010-13532 Filed 6-4-10; 8:45 am]

BILLING CODE 5001-06-P